DEPARTMENT OF THE TREASURY

Internal Revenue Service

Open Meeting of the Taxpayer Advocacy Panel Ad Hoc Committee

ACTION: Notice.

SUMMARY: An open meeting of the Taxpayer Advocacy Panel Ad Hoc Committee will be conducted (via teleconference).

DATES: The meeting will be held Thursday, December 5, 2002.

FOR FURTHER INFORMATION CONTACT: Anne Gruber or Judi Nicholas at 1-888-912-1227, or 206-220-6096.

SUPPLEMENTARY INFORMATION: Notice is hereby given pursuant to section 10(a)(2) of the Federal Advisory Committee Act, 5 U.S.C. App. (1988) that an open meeting of the Taxpayer Advocacy Panel Ad Hoc Committee will be held Thursday, December 5, 2002, from 1 pm p.s.t. to 3 pm p.s.t. via a telephone conference call. The public is invited to make written comments. If you would like to have the TAP consider a written statement, please call 1-888-912-1227 or 206-220-6096, or write Anne Gruber, TAP Office, 915 2nd Ave, M/S W406, Seattle, WA 98174. Due to limited conference lines, notification of intent to participate in the telephone conference call meeting must be made with Anne Gruber or Judi Nicholas. Ms. Gruber and Ms. Nicholas can be reached at 1-888-912-1227 or 206-220-6096.

The agenda will include the following: various IRS issues.

Note: Last minute changes to the agenda are possible and could prevent effective advance notice.

Dated: October 21, 2002.
John J. Mannion,
Director, Program Planning and Quality.

[FR Doc. 02-29386 Filed 11-19-02; 8:45 am]

BILLING CODE 4830-01-P